ENVIRONMENTAL PROTECTION AGENCY

[EPA-R09-OAR-2014-0785; FRL-9961-27-Region 9]

Notice of Approval of Clean Air Act Prevention of Significant Deterioration Permit for the McElmo Creek Unit Oil Production Facility (PSD Permit No. NU 05-01)

AGENCY: United States Environmental Protection Agency (EPA).

ACTION: Notice of final agency action.

SUMMARY: This notice announces that on September 30, 2016, the Environmental Protection Agency (EPA), Region 9, issued a final permit decision to Resolute Natural Resources Company to amend the Prevention of Significant Deterioration (PSD) permit for the McElmo Creek Unit Oil Production Facility (MCU Facility) (PSD Permit No. NU 05-01), an existing oil and gas production operation. The final permit decision was issued pursuant to the PSD regulations.

DATES: In accordance with 40 CFR 124.15(b), the final permit decision became effective on November 30, 2016. Pursuant to section 307(b)(1) of the Clean Air Act, 42 U.S.C. 7607(b)(1), judicial review of this final permit decision, to the extent it is available, may be sought by filing a petition for review in the United States Court of Appeals for the Ninth Circuit within 60 days of June 6, 2017.

ADDRESSES: The EPA has established docket number EPA-R09-OAR-2014-0785 for this action. Key portions of the administrative record for this PSD permit decision (including the final PSD permit decision, all public comments, the EPA's responses to the public comments, and additional supporting information) are available through a link at our Web site, http://www.epa.gov/caa-permitting/prevention-significant-deterioration-psd-permits-issued-region-9, or at http://www.regulations.gov (Docket ID No. EPA-R09-OAR-2014-0785). Documents are also available for public inspection during normal business hours at the following address: U.S. Environmental Protection Agency, Region 9, Air Division (AIR-3), 75 Hawthorne Street, San Francisco, California 94105-3901. To arrange for viewing of these documents, please schedule an appointment during normal business hours with the contact listed in the FOR FURTHER INFORMATION CONTACT section. Due to building security procedures, at least 48 hours advance notice is required.

FOR FURTHER INFORMATION CONTACT: Shaheerah Kelly, EPA Region 9, Air Division (AIR-3), (415) 947-4156, kelly.shaheerah@epa.gov.

NOTICE OF FINAL ACTION AND SUPPLEMENTARY INFORMATION: On September 30, 2016, the EPA Region 9 issued a final permit decision to Resolute Natural Resources Company to amend the PSD permit for the MCU Facility (PSD Permit No. NU 05-01). The MCU Facility is an existing oil and gas production operation located within the Four Corners Area on the Navajo Nation Indian Reservation near the town of Aneth, San Juan County, Utah.

The EPA amended the PSD permit, in accordance with PSD regulations (40 CFR 52.21), to incorporate pollution limits, terms, and conditions for the already existing Main Flare at the MCU Facility pursuant to a federal Consent Decree (United States v. Mobil Exploration and Producing U.S. Inc., Case No. 2:05-CV-319, filed June 8, 2005). These pollution limits, terms, and conditions include best available control technology emission limitations for nitrogen oxides, carbon monoxide, sulfur dioxide, and volatile organic compounds.

Additionally, the EPA amended the PSD permit to remove and update other applicable requirements in the MCU Facility's PSD permit due to equipment that has been shut down and removed from the site. Air pollution emissions as a result of this permit action would not cause or contribute to violations of any National Ambient Air Quality Standards or any applicable PSD increments. This permit action does not authorize any new construction or modification of existing equipment at the MCU Facility.

EPA received comments from eight commenters, including the Resolute Natural Resources Company. In accordance with 40 CFR 124.15(b), the final PSD permit decision issued on September 30, 2016, became effective on November 30, 2016. Pursuant to 40 CFR 124.19(l)(1), a petition to EPA's Environmental Appeals Board (EAB) under 40 CFR 124.19(a) is a prerequisite to seeking judicial review of this final agency action. No petition for review was properly and timely filed with EAB under 40 CFR 124.19(a).

Dated: March 23, 2017.
Elizabeth Adams,
Acting Director, Air Division, Region IX.

[FR Doc. 2017-11691 Filed 6-5-17; 8:45 am]

BILLING CODE 6560-50-P